DEPARTMENT OF ENERGY

Federal Energy Regulatory Commission

[P-620-000]

Notice of Draft License Application and Preliminary Draft Environmental Assessment (PDEA) and Request for Preliminary Terms and Conditions

August 20, 2003.

Take notice that the following hydroelectric application has been filed with the Commission and is available for public inspection.

a. Type of Application: Subsequent License.

b. Project No.: 620-000.

c. Date Filed: August 4, 2003.

d. Applicant: Norquest Seafoods.

e. Name of Project: Chignik Hydroelectric Project.

f. Location: On Indian Creek, a tributary of Chignik Bay, in the Town of Chignik, Aleutian Islands, Alaska. The project occupies 38.89 acres of United States lands under the jurisdiction of the Bureau of Land Management.

g. Filed Pursuant to: Federal Power Act 16 U.S.C. 791(a)-825(r).

h. Applicant Contact: Mr. Ron Soule, Norquest Seafoods, Inc., 5245 Shilshole Avenue, NW., Seattle, WA 98107-4833, Phone: (206) 281-7022. Mr. Daniel Hertrich, Polarconsult Alaska, Inc., 1503 W 33rd Avenue, #310, Anchorage, AK 99503, Phone: (907) 258-2420.

i. FERC Contact: John M. Mudre, (202) 502-8902, john.mudre@ferc.gov.

j. Status of Project: With this notice the Commission is soliciting: (1) preliminary terms, conditions, and recommendations on the Preliminary Draft Environmental Assessment (DEA); and (2) comments on the Draft License Application.

k. Deadline for filing: September 30, 2003.

All comments on the Preliminary DEA and Draft License Application should be sent to the addresses noted above in Item (h), with one copy filed with FERC at the following address: Magalie R. Salas, Secretary, Federal Energy Regulatory Commission, 888 First Street, NE., Washington, DC 20426. All comments must include the project name and number and bear the heading Preliminary Comments, Preliminary Recommendations, Preliminary Terms and Conditions, or Preliminary Prescriptions.

Comments, preliminary recommendations, terms and conditions, and prescriptions may be filed electronically via the Internet in lieu of paper. The Commission strongly encourages electronic filings. See 18 CFR 385.2001(a)(1)(iii) and the instructions on the Commission's Web site (http://www.ferc.gov) under the “e-Filing” link.

l. A copy of the application is available for review at the Commission in the Public Reference Room or may be viewed on the Commission's Web site at http://www.ferc.gov using the eLibrary (FERRIS) link. Enter the docket number excluding the last three digits in the docket number field to access the document. For assistance, contact FERC Online Support at FERCOnlineSupport@ferc.gov or toll-free at 1-866-208-3676, or for TTY, (202) 502-8659.

You may also register online at http://www.ferc.gov/esubscribenow.htm to be notified via email of new filings and issuances related to this or other pending projects. For assistance, contact FERC Online Support.

Polarconsult Alaska, Inc. has mailed a copy of the Preliminary DEA and Draft License Application to interested entities and parties. Copies of these documents are available for review at Polarconsult Alaska, Inc.'s address in h., above.

m. With this notice, we are initiating consultation with the Alaska State Historic Preservation Officer (SHPO), as required by section 106, National Historic Preservation Act, and the regulations of the Advisory Council on Historic Preservation, 36 CFR 800.4.

Magalie R. Salas,
Secretary.

[FR Doc. 03-21888 Filed 8-26-03; 8:45 am]

BILLING CODE 6717-01-P